DEPARTMENT OF HEALTH AND HUMAN SERVICES

Agency Information Collection Request; 60-Day Public Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60-days, and directed to the OS Paperwork.

Proposed Project: SF-424 Research & Related (R&R) Form—Revision-OMB No. 4040-0001—Grants.Gov.

Abstract: The SF-424 (R&R) is the government-wide data set for research grant applications. The data set provides information to assist Federal program staff and grants officials in assessing the adequacy of applicant's proposals to accomplish project objectives and determine whether grant applications reflect program needs. Agencies will not be required to collect all of the information in the proposed data set. The agency will identify the data that must be provided by applicants through instructions that will accompany the application package. The proposed data set incorporates proposed revisions adopted by the cross-agency R&R working group. This working group established the original proposed data set (4040-0001) in 2004. The instructions will also be revised.

We propose two major changes in our revision request. The first major change is to remove the Project/Performance Site Location(s) form from the collection. This form will be revised and included in a separate OMB-approved collection. The Project/Performance Site Locations(s) forms will be required with all SF-424 form families with the exception of the SF-424 Individual form. The second major change is to incorporate into this collection the Small Business Innovation Research (SBIR)/Small Business Technology Transfer (STTR) Information form (OMB Number 0925-0001). The existing SBIR/STTR Information form (OMB No. 0925-0001) will be discontinued once this R&R collection is renewed. We are requesting a 3-year extension of the revised form. The affected public may include Federal, State, Local, or tribal governments, business or other for profit, and not for profit institutions.

Estimated Annualized Burden Table
Agency | Number of respondents | Number of responses per respondent | Average burden per response (in hours) | Total burden hours
DOC | 2,300 | 1 | 25/60 | 958
DOE | 8,000 | 1 | 1.5 | 12,000
ED | 1,200 | 1 | 40 | 48,000
HHS | 60,000 | 1 | 60 | 3,600,000
DOD | 2,500 | 5 | 1.0676 | 13,345
NASA | 10,000 | 1 | 1.5 | 15,000
USDA | 6,000 | 1 | 1.25 | 7,500
NSF | 40,000 | 1 | 120 | 4,800,000
DHS | 350 | 1 | 120 | 42,000
Total |  |  |  | 8,538,803

John Teeter,
Office of the Secretary, Paperwork Reduction Act Reports Clearance Officer.

[FR Doc. E8-3745 Filed 2-27-08; 8:45 am]

BILLING CODE 4151-AE-P